DEPARTMENT OF THE INTERIOR

Bureau of Land Management

[18X L1109AF LLUT980300 L12200000.PM0000-24-1A]

Notice of Public Meeting for the Utah Resource Advisory Council/Recreation Resource Advisory Council

AGENCY: Bureau of Land Management, Interior.

ACTION: Notice of public meeting.

SUMMARY: In accordance with the Federal Land Policy and Management Act, the Federal Advisory Committee Act, and the Federal Lands Recreation Enhancement Act, the U.S. Department of the Interior, Bureau of Land Management's (BLM) Utah Resource Advisory Council (RAC)/Recreation Resource Advisory Council (RRAC) will meet as indicated below.

DATES: The Utah RAC/RRAC will hold a public meeting on May 21 and 22, 2018. The group will meet on May 21 from 1 p.m. to 5:00 p.m. and on May 22 from 8 a.m. to 4:00 p.m.

ADDRESSES: The meeting will be held at the BLM Utah State Office, 440 West 200 South, Suite 500, Salt Lake City, Utah 84101. Written comments may be sent to the BLM Utah State Office, 440 West 200 South, Suite 500, Salt Lake City, Utah 84101.

FOR FURTHER INFORMATION CONTACT: Lola Bird, Public Affairs Specialist, BLM Utah State Office, 440 West 200 South, Suite 500, Salt Lake City, Utah 84101; phone (801) 539-4033; or email lbird@blm.gov. Persons who use a telecommunications device for the deaf (TDD) may call the Federal Relay Service (FRS) at 1-800-877-8339 to leave a message or question for the above individual. The FRS is available 24 hours a day, seven days a week. Replies are provided during normal business hours.

SUPPLEMENTARY INFORMATION: Agenda topics include BLM updates from the State Director, fire dispatch study implementation, 2018 fire season outlook, updates for the planning process of Grand Staircase-Escalante and Bears Ears National Monuments, Watershed Protection Task Force, Mountain Accord, Washington County issues, Lake Powell pipeline project, recreation fee proposals, and other planning updates.

A public comment period will take place on May 22 from 2:15 p.m. to 2:45 p.m., where the public may address the RAC/RRAC. Depending on the number of people who wish to speak, and the time available, the time for individual comments may be limited. Written comments may also be sent to the BLM Utah State Office at the address listed in the ADDRESSES section of this Notice.

The meeting is open to the public; however, transportation, lodging, and meals are the responsibility of the participating individuals.

Before including your address, phone number, email address, or other personal identifying information in your comments, please be aware that your entire comment, including your personal identifying information, may be made publicly available at any time. While you can ask us in your comment to withhold your personal identifying information from public review, we cannot guarantee that we will be able to do so.

Authority: 43 CFR 1784.4-2

Edwin L. Roberson,
State Director.

[FR Doc. 2018-06673 Filed 3-30-18; 8:45 am]

BILLING CODE 4310-DQ-P